DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than November 19, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: When submitting comments or requesting information, please include the information request collection title for reference.

Information Collection Request Title: Be The Match® Patient Services Survey OMB No. 0915-xxxx—NEW

Abstract: National Marrow Donor Program®/Be The Match® is dedicated to helping patients and families get the support and information they need to learn about their disease and treatment options, prepare for transplant, and thrive after transplant. The information and resources provided are intended to help navigate the bone marrow or cord blood transplant (transplant) process. Participant feedback is essential to understand the needs for transplant support services and educational information across a diverse population. This information will be used to determine helpfulness of existing services and resources. Feedback is also used to identify areas for improvement and to develop future programs.

Need and Proposed Use of the Information: Barriers restricting access to bone marrow or cord blood transplant (transplant) related care and educational information are multi-factorial. Feedback from participants is essential to better understand the changing needs for services and information as well as to demonstrate the effectiveness of existing services. The primary use for information gathered through the survey is to determine helpfulness of participants' initial contact with Be The Match® Patient Services Coordinators (PSC) and to identify areas for improvement in the delivery of services.

The survey will include these items to measure: (1) Reason for contacting Be The Match®; (2) if the PSC was able to answer questions and easy to understand; (3) if the contact helped the participant to feel better prepared to discuss transplant with their care team; (4) increase in awareness of available resources; (5) timeliness of response; and (6) overall satisfaction. Stakeholders utilize this evaluation data to make program and resource allocation decisions.

Likely Respondents: Respondents will include patients, caregivers, and family members contacting Be The Match® Patient Services Coordinators. Respondents will include all patients, caregivers, and family members who have contact with Be The Match® Patient Services Coordinators via phone or email for transplant navigation services and support (advocacy). The decision to survey all participants was made based on historic evidence of patients' unavailability due to frequent transitions in health status as well as between home and the hospital for initial treatment and care for complications.

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Be The Match® Patient Services Survey | 420 | 1 | 420 | 0.25 | 105
Total | 420 | 1 | 420 | 0.25 | 105

The total respondent burden for the satisfaction survey is estimated to be 105 hours. We expect a total of 420 respondents (33% response rate) to complete the Be The Match® Patient Services Survey.

Dated: October 10, 2014.
Jackie Painter,
Acting Director, Division of Policy and Information Coordination.

[FR Doc. 2014-24872 Filed 10-17-14; 8:45 am]

BILLING CODE 4165-15-P